Title 3—

The President

Proclamation 10056 of July 17, 2020

Captive Nations Week, 2020

By the President of the United States of America

A Proclamation

Tragically, hundreds of millions of people around the world continue to suffer under repressive regimes. During Captive Nations Week, we condemn the cold grip of tyranny that holds nations under unjust rule, and we reaffirm our commitment to all who are fighting to overcome oppression. We renew our deep devotion to the principles of liberty, justice, and the rule of law, and we know the United States will continue to shine as an unparalleled example for all nations.

President Dwight D. Eisenhower first proclaimed Captive Nations Week in 1959 to declare our Nation's steadfast support for people throughout the world who are denied fundamental rights by their governments. The belief that a just government's powers are derived from the consent of the governed is sacrosanct in our country, but it is not shared universally. In many countries, citizens who peacefully speak their views, practice their religion, or strive to hold their governments accountable for abuses experience reckless disregard for their rights. Recently, authoritarian regimes have used the coronavirus pandemic to justify increased restrictions on individual human rights. These regimes have suppressed the free flow of timely and accurate information about the pandemic by censoring or imprisoning people who dare to share unapproved information or opinions. The most notable example today is China, where the virus originated and government suppression led directly to this global pandemic. In addition, the Chinese government has seized upon this opportunity to snuff out freedom in Hong Kong, which had been the only bastion of liberty in that captive nation.

The United States encourages all nations to respect individual liberty, uphold the rule of law, and be accountable to their people through consent-based governments. Authoritarian regimes that do not respect the inherent dignity of every individual hold the dreams and potential of their people captive, enabling poverty, repression, and anguish to flourish as they deny their people their God-given rights. We will never waver in our firm belief that liberty, justice, and the rule of law unleash the fullness of life that God intended for everyone. This week and always, we stand with all people who yearn to live freely, securely, and prosperously under rights-respecting, transparent, and accountable governments rooted in the consent of the governed.

The Congress, by Joint Resolution approved July 17, 1959 (73 Stat. 212), has authorized and requested the President to issue a proclamation designating the third week of July of each year as “Captive Nations Week.”

NOW, THEREFORE, I, DONALD J. TRUMP, President of the United States of America, by virtue of the authority vested in me by the Constitution and the laws of the United States, do hereby proclaim July 19 through July 25, 2020, as Captive Nations Week. I call upon all Americans to reaffirm our commitment to supporting those around the world striving for liberty, justice, and the rule of law.

IN WITNESS WHEREOF, I have hereunto set my hand this seventeenth day of July, in the year of our Lord two thousand twenty, and of the Independence of the United States of America the two hundred and forty-fifth.

[FR Doc. 2020-16035

Filed 7-21-20; 11:15 am]

Billing code 3295-F0-P